FEDERAL COMMUNICATIONS COMMISSION

Radio Broadcasting Services; AM or FM Proposals To Change the Community of License

AGENCY: Federal Communications Commission.

ACTION: Notice.

SUMMARY: The following applicants filed AM or FM proposals to change the community of license: Blue Sky Broadcasting, Station KPND, Facility ID 5992, BPH-20150717AAV, From Sandpoint, ID, To Dear Park, WA; Educational Media Foundation, Station KARQ, Facility ID 90988, BPED-20150706ACR, From San Andreas, CA, To Linden, CA; Educational Media Foundation, Station WDKL, Facility ID 64662, BPH-20150601ACZ, From Grafton, WV, To Loch Lynn Heights, MD; J&W Communications LLC, Station WAOQ, Facility ID 825, BPH-20150515ABK, From Brantley, AL, To Goshen, AL; Lakewood Communications LLC, Station WKSR-FM, Facility ID 27422, BPH-20150702AAL, From Lawrenceburg, TN, To Pulaski, TN; Lazer Licenses, LLC, Station KCAL, Facility ID 55416, BP-20150603AAS, From Redlands, CA, To Grand Terrace, CA; Mississippi College, Station WHJT, Facility ID 43180, BPH-20150618AAS, From Clinton, MS, To Kearney Park, MS; MTD, Inc., Station KNMB, Facility ID 87766, BPH-20150610AAR, From Cloudcroft, NM, To Capitan, NM; Northwest Indy Radio, Station KBSG, Facility ID 174954, BPED-20150610AAD, From Hoquiam, WA, To Raymond, WA; Radio Dalhart, Inc., Station KHJQ, Facility ID 82894, BPH-20150625ACH, From Leakey, TX, To Concan, TX; S and H Broadcasting, LLC, Station KVGH, Facility ID 2316, BPH-20150622AFT, From North Shore, CA, To Bermuda Dunes, CA; Top O' Texas Ed B/Casting Foundation, Station KOGC, Facility ID 174505, BPED-20150611ABM, From Wheeler, TX, To Carter, OK.

DATES: The agency must receive comments on or before October 9, 2015.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2015-19575 Filed 8-7-15; 8:45 am]

BILLING CODE 6712-01-P